DEPARTMENT OF COMMERCE

Patent and Trademark Office

[Docket No. PTO-C-2023-0006]

Future Strategies in Anticounterfeiting and Antipiracy

AGENCY: United States Patent and Trademark Office, Department of Commerce.

ACTION: Request for comments; extension of comment period.

SUMMARY: The United States Patent and Trademark Office (USPTO) published a request for comments in the Federal Register on May 25, 2023, seeking information from interested parties—in particular consumers, intellectual property rights holders, online marketplaces and platforms, physical marketplaces, parties who provide goods to the public, and other private sector stakeholders—on the evolution of counterfeiting and piracy in recent years and ways to identify and develop future anticounterfeiting and antipiracy strategies. Through this notice, the USPTO is extending the period for public comments until September 25, 2023.

DATES: Written comments must be received by 11:59 p.m. ET on September 25, 2023.

ADDRESSES: You may submit comments by one of the following methods:

(1) Electronic submissions: Submit all electronic comments via the Federal eRulemaking Portal at www.regulations.gov (at the homepage, enter PTO-C-2023-0006 in the “Search” box, click the “Comment” icon, complete the required fields, and enter or attach your comments). The materials in the docket will not be edited to remove identifying or contact information, and the USPTO cautions against including any information in an electronic submission that the submitter does not want publicly disclosed. Attachments to electronic comments will be accepted only in Microsoft Word, Microsoft Excel, or Adobe PDF formats. Comments containing references to studies, research, and other empirical data that are not widely published should include copies of the referenced materials. Please do not submit additional materials. If you want to submit a comment with confidential business information that you do not wish to be made public, please submit the comment as a written/paper submission in the manner detailed below.

(2) Written/paper submissions: Send all written/paper submissions to: United States Patent and Trademark Office, Mail Stop OPIA, P.O. Box 1450, Alexandria, VA 22314. Submission packaging should clearly indicate that materials are responsive to Docket No. PTO-C-2023-0006, Office of Policy and International Affairs, Comment Request; Future Strategies in Anticounterfeiting and Antipiracy.

Submissions of confidential business information: Any submissions containing confidential business information must be delivered in a sealed envelope marked “confidential treatment requested” to the address listed above. Submitters should provide an index listing the document(s) or information they would like the USPTO to withhold. The index should include information such as numbers used to identify the relevant document(s) or information, the document title(s) and description(s), and relevant page numbers and/or section numbers within a document. Submitters should provide a statement explaining their grounds for objecting to the disclosure of the information to the public. The USPTO also requests that submitters of confidential business information include a non-confidential version (either redacted or summarized) of those confidential submissions that will be available for public viewing and posted on www.regulations.gov. In the event that the submitter cannot provide a non-confidential version of their submission, the USPTO requests that the submitter post a notice in the docket stating that they have provided the USPTO with confidential business information. Should a submitter fail to either docket a non-confidential version of their submission or post a notice that confidential business information has been provided, the USPTO will note the receipt of the submission on the docket with the submitter's organization or name (to the degree permitted by law) and the date of submission.

FOR FURTHER INFORMATION CONTACT: Ameen Imam, USPTO, Office of Policy and International Affairs, at 571-272-9300 or ameen.imam@uspto.gov. Please direct media inquiries to the USPTO's Office of the Chief Communications Officer at 571-272-8400.

SUPPLEMENTARY INFORMATION: On May 25, 2023, the USPTO published a Federal Register Notice requesting information from interested parties regarding their observations and insights into the future of anticounterfeiting and antipiracy strategies. In particular, as part of the USPTO's efforts to address counterfeiting and piracy, the notice requested information from consumers, intellectual property rights holders, online marketplaces and platforms, physical marketplaces, parties who provide goods to the public, and other private sector stakeholders on the evolution of counterfeiting and piracy in recent years and ways to identify and develop future anticounterfeiting and antipiracy strategies. See Future Strategies in Anticounterfeiting and Antipiracy, 88 FR 33872. The notice requested public comments on or before August 23, 2023.

Through this notice, the USPTO is extending the period for public comments until September 25, 2023, to give interested members of the public additional time to submit comments. All other information and instructions to commenters provided in the May 25, 2023, notice remain unchanged. Previously submitted comments do not need to be resubmitted. Any comments received after the previous deadline of August 23, 2023, and before the publication date of this notice will be treated as timely and given full consideration.

Katherine K. Vidal,
Under Secretary of Commerce for Intellectual Property and Director of the United States Patent and Trademark Office.

[FR Doc. 2023-18844 Filed 8-30-23; 8:45 am]

BILLING CODE 3510-16-P